SMALL BUSINESS ADMINISTRATION

[Disaster Declaration # 10821 and # 10822]

Alabama Disaster Number AL-00007

AGENCY: U.S. Small Business Administration.

ACTION: Amendment 1.

SUMMARY: This is an amendment of the Presidential declaration of a major disaster for the State of Alabama (FEMA-1687-DR), dated 3/3/2007.

Incident: Severe Storms and Tornadoes.

Incident Period: 3/1/2007.

DATES: Effective Date: 3/6/2007.

Physical Loan Application Deadline Date: 5/2/2007.

EIDL Loan Application Deadline Date: 12/3/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Alabama, dated 3/3/2007 is hereby amended to include the following areas as adversely affected by the disaster:

Primary Counties: Dale, Dallas, Henry, Montgomery, Wilcox,

Contiguous Counties:

Alabama: Autauga, Barbour, Bullock, Butler, Chilton, Clarke, Elmore, Houston, Lowndes, Macon, Marengo, Monroe, Perry

Georgia: Clay, Early

All other information in the original declaration remains unchanged.

(Catalog of Federal Domestic Assistance Numbers 59002 and 59008.)

Herbert L. Mitchell,
Associate Administrator for Disaster Assistance.

[FR Doc. E7-4551 Filed 3-12-07; 8:45 am]

BILLING CODE 8025-01-P